NUCLEAR REGULATORY COMMISSION

Steam Generator Tube Integrity and Associated Technical Specifications

AGENCY: Nuclear Regulatory Commission.

ACTION: Notice of issuance.

SUMMARY: The U.S. Nuclear Regulatory Commission (NRC) has issued Generic Letter (GL) 2006-01 to all holders of operating licenses for pressurized water reactors, except those who have permanently ceased operation and have certified that fuel has been removed from the reactor vessel. A response to this GL is not needed for the following units since they have revised their technical specifications (TS) to be conceptually similar to the TS discussed in this GL: Arkansas Nuclear One Unit 1, Callaway, Catawba Units 1 and 2, Farley Units 1 and 2, Salem Unit 1, and South Texas Project Units 1 and 2. The NRC is issuing this generic letter to:

1. Request that addressees either submit a description of their program for ensuring steam generator (SG) tube integrity for the interval between inspections or adopt alternative TS requirements for ensuring SG tube integrity, and

2. Require addressees to provide a written response to the NRC in accordance with Title 10 of the Code of Federal Regulations, Section 50.54(f).

This Federal Register notice is available through the NRC's Agencywide Documents Access and Management System (ADAMS) under accession number ML060240020.

DATES: The GL was issued on January 20, 2006.

ADDRESSES: Not applicable.

FOR FURTHER INFORMATION CONTACT: Kenneth Karwoski at 301-415-2752 or by e-mail kjk1@nrc.gov or David Beaulieu at 301-415-3243 or e-mail dpb@nrc.gov.

SUPPLEMENTARY INFORMATION: NRC GL 2006-01 may be examined, and/or copied for a fee, at the NRC's Public Document Room at One White Flint North, 11555 Rockville Pike (first floor), Rockville, Maryland. Publicly available records will be accessible electronically from the Agencywide Documents Access and Management System (ADAMS) Public Electronic Reading Room on the Internet at the NRC Web site, http://www.nrc.gov/NRC/ADAMS/index.html. The ADAMS number for the generic letter is ML060200385.

If you do not have access to ADAMS or if you have problems in accessing the documents in ADAMS, contact the NRC Public Document Room (PDR) reference staff at 1-800-397-4209 or 301-415-4737 or by e-mail to pdr@nrc.gov.

Dated at Rockville, Maryland, this 27th day of January, 2006.
For The Nuclear Regulatory Commission.
Christopher I. Grimes,
Director, Division of Policy and Rulemaking, Office of Nuclear Reactor Regulation.

[FR Doc. E6-1569 Filed 2-3-06; 8:45 am]

BILLING CODE 7590-01-P